SMALL BUSINESS ADMINISTRATION

Advisory Committee on Veterans Business Affairs; Public Meeting

The SBA Advisory Committee on Veterans Business Affairs

The U.S. Small Business Administration (SBA), pursuant to the Veterans Entrepreneurship and Small Business Development Act of 1999 (Public Law 106-50), will be hosting its third meeting of the Advisory Committee on Veterans Business Affairs. The meeting will be held on September 22-23, 2003 from 9am-5pm at the SBA located at 409 3rd Street, SW., Washington, DC 20416 in the Eisenhower Conference Room located on the 2nd Floor. On September 24, 2003, the meeting will be held from 9am-12pm in the Office of the General Counsel's conference room, located on the 5th floor at the same location.

If you have any questions or concerns regarding the meeting, please contact Cheryl Clark in The Office of Veterans Business Development (OVBD) at (202) 205-6773.

Scott R. Morris,
Deputy Chief of Staff.

[FR Doc. 03-23277 Filed 9-11-03; 8:45 am]

BILLING CODE 8025-01-P